Title 3—

The President

Executive Order 13271 of July 9, 2002

Establishment of the Corporate Fraud Task Force

By the authority vested in me as President by the Constitution and the laws of the United States of America, and in order to strengthen the efforts of the Department of Justice and Federal, State, and local agencies to investigate and prosecute significant financial crimes, recover the proceeds of such crimes, and ensure just and effective punishment of those who perpetrate financial crimes, it is hereby ordered as follows:

Section 1. Establishment. The Attorney General shall immediately establish within the Department of Justice a Corporate Fraud Task Force (Task Force). Without regard to any other provision of this order, the Task Force shall be subject to the authority of the Attorney General under applicable law.

Sec. 2. Membership and Operation. Subject to section 4 of this order, the Task Force shall have the following members:

(a) the Deputy Attorney General, who shall serve as Chair;

(b) the Assistant Attorney General (Criminal Division);

(c) the Assistant Attorney General (Tax Division);

(d) the Director of the Federal Bureau of Investigation;

(e) the United States Attorney for the Southern District of New York;

(f) the United States Attorney for the Eastern District of New York;

(g) the United States Attorney for the Northern District of Illinois;

(h) the United States Attorney for the Eastern District of Pennsylvania;

(i) the United States Attorney for the Central District of California;

(j) the United States Attorney for the Northern District of California;

(k) the United States Attorney for the Southern District of Texas; and

(l) such other officers or employees of the Department of Justice as the Attorney General may from time to time designate.

The Deputy Attorney General shall convene and direct the work of the Task Force in fulfilling all its functions under this order. The Deputy Attorney General may permit, when he deems it appropriate, the designee of a member of the Task Force, including those designated under section 4 of this order, to participate in lieu of the member. The Deputy Attorney General shall convene the first meeting of the Task Force within 10 days of the date of this order and shall thereafter convene the Task Force at such times as he deems appropriate.

Sec. 3. Functions. Consistent with the constitutional authority of the President, the authorities assigned to the Attorney General by law, and other applicable law, the Task Force shall:

(a) provide direction for the investigation and prosecution of cases of securities fraud, accounting fraud, mail and wire fraud, money laundering, tax fraud based on such predicate offenses, and other related financial crimes committed by commercial entities and directors, officers, professional advisers, and employees thereof (hereinafter “financial crimes”), when such cases are determined by the Deputy Attorney General, for purposes of this order, to be significant;

(b) provide recommendations to the Attorney General for allocation and reallocation of resources of the Department of Justice for investigation and prosecution of significant financial crimes, recovery of proceeds from such crimes to the extent permitted by law, and other matters determined by the Task Force from time to time to be of the highest priority in the investigation and prosecution of such crimes; and

(c) make recommendations to the President, through the Attorney General, from time to time for:

(i) action to enhance cooperation among departments, agencies, and entities of the Federal Government in the investigation and prosecution of significant financial crimes;

(ii) action to enhance cooperation among Federal, State, and local authorities responsible for the investigation and prosecution of significant financial crimes;

(iii) changes in rules, regulations, or policy to improve the effective investigation and prosecution of significant financial crimes; and

(iv) recommendations to the Congress regarding such measures as the President may judge necessary and expedient relating to significant financial crimes, or the investigation or prosecution thereof.

Sec. 4. Additional Participation for Specified Functions. In the Task Force's performance of the functions set forth in subsection 3(c) of this order, and to the extent permitted by law, the following officers of the executive branch shall be members of the Task Force in addition to such other officers of the Federal Government as the Deputy Attorney General deems appropriate:

(a) the Secretary of the Treasury;

(b) the Chairman of the Securities and Exchange Commission;

(c) the Chairman of the Commodities Futures Trading Commission;

(d) the Chairman of the Federal Energy Regulatory Commission; and

(e) the Chairman of the Federal Communications Commission.

Sec. 5. Internal Management Purpose. This order is intended to improve the internal management of the Federal Government. This order is not intended to, and does not, create any right or benefit, substantive or procedural, enforceable at law or equity or otherwise against the United States, its departments, agencies, entities, instrumentalities, officers, or employees, or any other person.

Sec. 6. Termination. The Task Force shall terminate when directed by the President or, with the approval of the President, by the Attorney General.

B

THE WHITE HOUSE,

July 9, 2002.

[FR Doc. 02-17640

Filed 7-10-02; 11:15 am]

Billing code 3195-01-P